DEPARTMENT OF THE INTERIOR

Fish and Wildlife Service

[FWS-R4-ES-2012-N032; FXES11130400000C2]

Recovery Plan for the Endangered Spigelia gentianoides (Gentian Pinkroot)

AGENCY: Fish and Wildlife Service, Interior.

ACTION: Notice of document availability.

SUMMARY: We, the Fish and Wildlife Service, announce the availability of the final recovery plan for Spigelia gentianoides (Gentian pinkroot), a threatened species restricted to six locations within three counties in the Florida Panhandle and two counties in Alabama. The recovery plan includes specific recovery objectives and criteria to be met in order to reclassify this species from endangered to threatened status under the Endangered Species Act of 1973, as amended (Act).

ADDRESSES: You may obtain a copy of the recovery plan by contacting the Panama City Field Office (PCFO), by U.S. mail at U.S. Fish and Wildlife Service, 1601 Balboa Ave, Panama City, FL 32405, or by telephone at (850) 769-0552. Alternatively, you may visit the Fish and Wildlife Service's recovery plan Web site at http://www.fws.gov/endangered/species/recovery-plans.html or the PCFO Web site at http://www.fws.gov/panamacity/listedplants.html.

FOR FURTHER INFORMATION CONTACT: Dr. Vivian Negrón-Ortiz, at the above address, or by telephone at (850) 769-0552, ext. 231.

SUPPLEMENTARY INFORMATION:

Background

We listed Spigelia gentianoides (Gentian pinkroot) as an endangered species under the Act (16 U.S.C. 1531 et seq.) on November 26, 1990 (55 FR 49046). Spigelia gentianoides is a small herbaceous plant and has two varieties: Var. gentianoides is restricted to five locations within three counties in the Florida Panhandle and southern Alabama, and var. alabamensis is limited to Bibb County, Alabama. The loss or alteration of habitat is thought to be the primary reason for the species' decline. The extant plants of var. gentianoides are located in fire-dependent longleaf pine-wiregrass and pine-oak-hickory ecosystems. Much of this habitat has been reduced in its range, converted to pine plantation, and managed without fire. Variety alabamensis is a narrow endemic, restricted to the Bibb County Glades (open, almost treeless areas within woodlands). Some of the glades are owned and protected by The Nature Conservancy. However, this variety is threatened by potential development of privately owned glades.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We made the draft of this recovery plan available for public comment from March 23 through May 23, 2011 (76 FR 16439). We considered information we received during this public comment period and information from peer reviewers in our preparation of this final recovery plan. Some sections of the recovery plan were edited based on peer reviewer and public comments. However, no substantial changes were made to the final plan.

Recovery Plan Criteria

The goal of this plan is to provide a framework to conserve and recover S. gentianoides so it may be reclassified to threatened status. Spigelia gentianoides will be considered for reclassification to threatened status when:

• Extant populations and newly discovered sites are identified and mapped;

• Inventories have been conducted across the species' historic sites and/or on new locations;

• Monitoring programs and management protocols on selected populations are established for 15 years to track threats to the species and its habitat;

• Extant populations located on public land are stable;

• The minimum viable population (MVP) size has been determined for each variety;

• Research on key aspects related to demography, reproductive biology, and seed ecology is accomplished; and

• Collect viable seeds from at least 50 percent of the populations for each variety and store them ex situ (off site—that is, in designated seed storage facilities).

In addition, the following specific actions must be completed for each variety:

○ Var. gentianoides:

Sizes of populations # 1 to # 4 (out of 5) are increased via prescribed burns until plant numbers are stabilized;

At least one new population is found; and

At least one population is re-established within the historic range.

○ Var. alabamensis:

Fifty percent of the Bibb County glades known to support the variety on private land are protected through conservation agreements, easements, or land acquisition.

As reclassification criteria are met the status of the species will be reviewed, and the species will be considered for reclassification to threatened status.

Defining delisting criteria is not possible at this time, given the current low numbers of populations and individuals, lack of information about the species' biology, and the magnitude of current threats from development. Reclassification criteria will be reevaluated and delisting criteria will be created as new scientific data and information become available and recovery actions are implemented.

Authority

The authority for this action is section 4(f) of the Endangered Species Act, 16 U.S.C. 1533(f).

Dated: January 24, 2012.
Mark J. Musaus,
Acting Regional Director, Southeast Region.

[FR Doc. 2012-7180 Filed 3-23-12; 8:45 am]

BILLING CODE 4310-55-P